ENVIRONMENTAL PROTECTION AGENCY

[ER-FRL-6622-9]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated May 18, 2001 (97 FR 27647).

Final EISs

ERP No. F-BLM-J01077-WY North Jacobs Ranch Coal Lease Application (WYW 146744), Federal Coal Tract, Located in the Powder River Basin, Campbell County, WY.

Summary: EPA continues to express concerns about NO2 air emissions from blasting mine overburden and a lack of site specific N02 data. EPA supports BLM's decision to group future Powder River Basin coal leases into one EIS.

ERP No. F-CDB-K81026-CA West Hollywood Gateway Public/Private Partnership Construction Project, Multi-Story Office, Retail, Restaurant and Entertainment Use Development, Community Development Block Grant (CDBG) Funds Issuance, City of West Hollywood, Los Angeles County, CA.

Summary: EPA determined that the document adequately addresses the issues raised in our comment letter on the DEIS.

ERP No. F-TVA-E05098-TN, Addition of Electric Generation Baseload Capacity, Proposes to Construct a Natural Gas Fired Combined Cycle Power Plant, Franklin County, TN.

Summary: While most impacts have been mitigated, EPA still expressed concern regarding noise impacts and suggested that the ROD provide noise mitigation measures that would be implemented as needed on follow-up monitoring.

Dated: October 16, 2001.
Joseph C. Montgomery,
Director, NEPA Compliance Division, Office of Federal Activities.

[FR Doc. 01-26423 Filed 10-18-01; 8:45 am]

BILLING CODE 6560-50-P